DEPARTMENT OF LABOR

Employment and Training Administration

[TA-W-50,069]

L.W. Packard & Co., Inc. Ashland, New Hampshire; Amended Certification Regarding Eligibility To Apply for Worker Adjustment Assistance

In accordance with Section 223 of the Trade Act of 1974 (19 U.S.C. 2273) the Department of Labor issued a Certification of Eligibility to Apply for Worker Adjustment Assistance on November 29, 2002, applicable to workers of L.W. Packard & Co., Inc., Ashland, New Hampshire. The notice was published in the Federal Register on December 23, 2002 (67 FR 78258).

At the request of the State agency, the Department reviewed the certification for workers of the subject firm. Findings show that the Department issued certification coverage to all workers of the subject firm's Ashland, New Hampshire location.

The investigation conducted for the subject firm was conducted on behalf of workers producing woolen fabrics for ladies' and men's coats. The investigation revealed that customer imports of woolen fabrics increased while sales, production and employment declined during the period of the investigation.

Information provided by the State also shows that workers of the subject firm have ceased production of woolen fabrics. Workers currently employed at the facility perform other services and are separately identifiable from workers who produced woolen fabrics.

Based on these findings, the Department is amending the certification to cover all workers of L.W. Packard & Co., Inc., Ashland, New Hampshire, engaged in employment related to the production of woolen fabrics.

It is the intent of the Department to include all workers engaged in employment related to the production of woolen fabric of L.W. Packard & Co., Inc. Ashland, New Hampshire adversely affected by increased imports of woolen fabrics.

The amended notice applicable to TA-W-50,069 is hereby issued as follows:

All workers of L.W. Packard & Co., Inc., Ashland, New Hampshire, engaged in employment related to the production of woolen fabrics, who became totally or partially separated from employment on or after November 8, 2001, through two years from the date of the original certification, are eligible to apply for adjustment assistance under Section 223 of the Trade Act of 1974.

Signed at Washington, DC, this 2nd day of January 2003.
Richard Church,
Certifying Officer, Division of Trade Adjustment Assistance.

[FR Doc. 03-806 Filed 1-14-03; 8:45 am]

BILLING CODE 4510-30-P